DEPARTMENT OF AGRICULTURE

Farm Service Agency

Commodity Credit Corporation

Information Collection Request; Debt Settlement Policies and Procedures

AGENCY: Farm Service Agency and Commodity Credit Corporation.

ACTION: Notice; request for comments.

SUMMARY: In accordance with the Paperwork Reduction Act of 1995, the Commodity Credit Corporation (CCC) and the Farm Service Agency (FSA) are requesting comments from all interested individuals and organizations on an extension of a currently approved information collection that supports the FSA and CCC Debt Settlement Policies and Procedure regulations.

DATES: We will consider comments that we receive by May 5, 2015.

ADDRESSES: We invite you to submit comments on this notice. In your comments, include the date, volume, and page number of this issue of the Federal Register, the OMB control number and the title of the information collection. You may submit comments by any of the following methods:

• Federal eRulemaking Portal: Go to http://www.regulations.gov. Follow the online instructions for submitting comments.

• Mail: Thomas F. Harris II, Claims Program Specialist, Financial Management Division, Office of Budget and Finance, Farm Service Agency, USDA, STOP 0581, 355 E Street SW., Suite 11-181B, Washington, DC 20024.

You may also send comments to the Desk Officer for Agriculture, Office of Information and Regulatory Affairs, Office of Management and Budget, Washington, DC 20503. Copies of the information collection may be requested by contacting Thomas F. Harris at the above address.

FOR FURTHER INFORMATION CONTACT: Thomas F. Harris II, (202) 772-6014. Persons with disabilities who require alternative means for communication (Braille, large print, audio tape, etc.) should contact the USDA's TARGET Center at (202) 720-2600 (Voice only).

SUPPLEMENTARY INFORMATION: Title: Debt Settlement Policies and Procedures.

OMB Control Number: 0560-0146.

Expiration Date of Approval: July 31, 2015.

Type of Request: Extension of a currently approved information collection.

Abstract: This information collection is required to enable FSA and CCC to effectively administer the regulations at 7 CFR part 792 (FSA) and 7 CFR part 1403 (CCC) pertaining to debt settlement policies and procedures and the identification of and settlement of outstanding claims. Collection of outstanding debts owed to FSA or to CCC can be effected by installment payments if a debtor furnishes satisfactory evidence of inability to pay a claim in full, and if the debtor specifically requests an installment agreement. Part of the requirement is that the debtor furnishes a financial statement or other information that would disclose the debtor's assets and liabilities. This information is required in order to evaluate any proposed plan. Such requests for documentation furnished by the debtor are also used in the other collection tools employed by both FSA and CCC in managing debt settlement policies and procedures. If an installment agreement is approved, then a Promissory Note (CCC-279), or an approved alternative promissory note format, should be executed between the debtor and the FSA/CCC representative(s).

During the past two years, $13,930,548.07 in debt collection for Farm Programs and for the Commodity Office was facilitated by the use of this requested information. Eighty four (84) Promissory Notes were established between debtors and FSA and CCC from 10/01/2013 to 10/01/2014. Total active Note amount for the past two years is presently 305 total Promissory Notes (includes beginning outstanding notes (213); total notes established (84); notes defaulted (1), notes paid off in full (25); notes paid, small balance loans (-25); notes written off (07) and notes discharged in Bankruptcy (00)) with a beginning outstanding amount in 2014 of $31,131,509.78, and an ending outstanding amount of $13,930,584.07. Collections for FSA and CCC from FSA/CCC offices, DOJ actions, and Voluntary Payments totaled $3,416,702.42. The Debt Collection Improvement Act of 1996 (DCIA) requires the head of an agency to take all appropriate steps to collect delinquent debts before discharging the debts. The current information collection forms and formats have been successfully used for the past several years and have become familiar tools for both agency employees and producers. Thus, adequate forms and formats already exist and are in use. Developing new forms and formats would be costly and is not required to meet the demands of the DCIA. Public comment is requested on how the forms and process may be improved, as specified below. There are no changes to the information collection since the last OMB approval.

The formula used to calculate the total burden hour is estimated average time per responses hours times total annual responses.

Estimate of Burden: Public reporting burden for this information collection is estimated to average 0.66 hours per response. The average travel time, which is included in the total annual burden, is estimated to be 1 hour per respondent.

Respondents: Producers participating in FSA and CCC programs.

Estimated Number of Respondents: 300.

Estimated Number of Responses per Respondent: 1.

Estimated Total Annual Responses: 300.

Estimated Average Time per Response: 0.66.

Estimated Total Annual Burden on Respondents: 200 Hours.

We are requesting comments on all aspects of this information collection to help us to:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

Signed on March 3, 2015.
Val Dolcini,
Administrator, Farm Service Agency, and Executive Vice President, Commodity Credit Corporation.

[FR Doc. 2015-05227 Filed 3-5-15; 8:45 am]

BILLING CODE 3410-05-P